DEPARTMENT OF THE INTERIOR

Bureau of Land Management

[WY-100-07-1310-DB]

Notice of Availability of Draft Supplemental Environmental Impact Statement for the Pinedale Anticline Oil and Gas Exploration and Development Project, Sublette County, Wyoming

ACTION: Notice, correction.

AGENCY: Bureau of Land Management, Interior.

SUMMARY: The Bureau of Land Management (BLM) published in the Federal Register on December 15, 2006 a Notice of Availability (NOA) of a Draft Supplemental Environmental Impact Statement (SEIS) for the Pinedale Anticline Oil and Gas Exploration and Development Project. The NOA contained incorrect information. The ADDRESSES section contained an incorrect Web address as to where the document would be available electronically. The DATES section contained unclear and incorrect information. The correct information is provided below.

DATES: The Draft SEIS will be available for public comment for 60 days starting on the date the Environmental Protection Agency publishes its Notice of Availability in the Federal Register. A separate CALGRID airborne ozone report is being prepared by BLM and will be published for public comment following the release of the Draft SEIS; when it is available the report will be available for review at http://www.wy.blm.gov/nepa/pfodocs/anticline/seis.

Although the comment period for the Draft SEIS will run for 60 days, the public will have a minimum of 45 days to review and comment on the CALGRID airborne ozone report after its release. The two review periods may run concurrently. All comments on the ozone report received by the BLM will be considered official comments on the Draft SEIS. To expedite the preparation of the Final SEIS by the BLM, please submit all comments on the Draft SEIS within the 60 day comment period.

To provide the public with an opportunity to review the proposal and project information, the BLM will host a meeting in Pinedale, Wyoming. The BLM will notify the public of the meeting date, time, and location at least 15 days prior to the event. Announcement of the public meeting will be made by news release to the media, individual letter mailings, and posting on the BLM Web site, listed below, if it is available.

ADDRESSES: Please send written comments or resource information to the Bureau of Land Management, Pinedale Field Office, Matt Anderson, Project Manager, 432 East Mill Street, P.O. Box 768, Pinedale, Wyoming 82941. Electronic mail may be sent to: WYMail_PAPA_YRA@blm.gov. The Draft SEIS will be available electronically for viewing or downloading at the following Web site: http://www.wy.blm.gov/nepa/pfodocs/anticline/seis.

Your response is important and will be considered in the environmental analysis process. If you do respond, we will keep you informed of decisions resulting from this analysis. Please note that public comments and information submitted regarding this project including names, e-mail addresses, and street addresses of the respondents will be available for public review and disclosure at the above address during regular business hours (7:45 a.m. to 4:30 p.m.), Monday through Friday, except holidays. Individual respondents may request confidentiality. If you wish to withhold your name, e-mail address, or street address from public review or from disclosure under the Freedom of Information Act, you must state this plainly at the beginning of your written comment. Such requests will be honored to the extent allowed by the law. All submissions from organizations or businesses, and from individuals identifying themselves as representatives or officials of organizations or businesses, will be made available for public inspection in their entirety.

SUPPLEMENTARY INFORMATION: A complete description of the proposed action and the Draft SEIS may be found in the Federal Register; Volume 71, Number 241; December 15, 2006.

Dated: December 18, 2006.
Donald A. Simpson,
Associate State Director.

[FR Doc. E6-22001 Filed 12-22-06; 8:45 am]

BILLING CODE 4310-22-P